DEPARTMENT OF TRANSPORTATION

Federal Highway Administration

Notice To Rescind Notice of Intent To Prepare an Environmental Impact Statement: Lone Star Regional Rail Project, Williamson, Travis, Bastrop, Hays, Caldwell, Comal Guadalupe and Bexar Counties, State of Texas

AGENCY: Federal Highway Administration (FHWA), DOT.

ACTION: Rescind Notice of Intent to prepare an Environmental Impact Statement (EIS) for the Lone Star Rail Project in Central Texas.

SUMMARY: The FHWA is issuing this notice to advise the public that the Notice of Intent to prepare an EIS for the proposed Lone Star Rail transportation project to construct and operate a regional passenger rail service system along the IH-35 corridor connecting the greater Austin and San Antonio metropolitan areas is rescinded. The Texas Department of Transportation (TxDOT) will no longer prepare an EIS for the Lone Star Rail Project.

FOR FURTHER INFORMATION CONTACT: Michael T. Leary, Director of Planning and Program Development, Federal Highway Administration, 300 E. 8th Street, Room 826, Austin, Texas 78701, by telephone (512)536-5940.

SUPPLEMENTARY INFORMATION: The FHWA, in cooperation with the TxDOT and the Lone Star Rail District (LSRD), published a Notice of Intent in the Federal Register on October 6, 2014 (Document Number 2014-23711, Pages 60232 to 60323) to prepare an EIS for the proposed project to construct and operate the Lone Star Rail Project, a regional passenger rail service system along the IH-35 corridor connecting the greater Austin and San Antonio metropolitan areas anticipated to be operated by the LSRD. The proposed EIS was to evaluate the reasonable corridor alternatives.

The LSRD conducted numerous studies and held public meetings to gather input from the public and other stakeholders to consider in the development of the DEIS. A Notice of Availability (NOA) for a DEIS was never published in the Federal Register. In October 2016, TxDOT requested preparation of the EIS be stopped and the Notice of Intent be rescinded. In January 2017 TxDOT provided information supporting their request to rescind the NOI.

The request is based on a number of issues first being the decision by Union Pacific Railroad Company to cancel the UP/LSRD agreement for the possible use MOPAC corridor (the locally preferred alternative) which renders the alternate using of UP right of way nonviable. This action caused a cascade of additional actions by other entities. One of which was the removal the proposed project from the Capital Area Metropolitan Planning Organization (CAMPO—Austin MPO) metropolitan transportation plan (MTP) and an ongoing effort to remove the project in the Alamo Area Metropolitan Planning Organization (AAMPO—San Antonio MPO) MTP. As per current transportation planning regulations 23 CFR450 the project could not advance to a NEPA decision without being in both MPO's metropolitan transportation plans. Further, TxDOT analyzed the other remaining initially reasonable alternatives and determined that:

—the use of I 35 corridor would not be financial feasible due to ROW constraints and ongoing I-35 improvements .

—the use of the State Highway 130 corridor as per LSRD 2008 fatal flaw analysis concluded the corridor would not support a commuter rail line and ridership and connectivity would make the corridor nonviable.

—other alternative combinations such as I 35 and UP rail line and a hybrid option lack viability.

Further with an estimated cost of between $2 to $3 billion, funding anticipated by LSRD such as the State's Rail Relocation and Improvement Fund, Federal Railroad Administration grants and private investment have not been capitalized or funded at levels necessary needed to complete the project.

Due to the request made by the lead State sponsor (TxDOT) and based on the above information with the UP rail line alternative no longer feasible, lack of viability of other reasonable alternatives, removal of the project from the CAMPO transportation plan and a lack of a capitalized financial plan to move the project forward, the further development of the DEIS is not warranted at this time. As a result, the above mentioned original Notice of Intent is rescinded.

The FHWA concurs with the TxDOT that the information gathered during the LSRD EIS project can be used in future efforts to determine viable transportation options for the Austin San Antonio corridor.

(Catalog of Federal Domestic Assistance Program Number 20.205, Highway research, Planning and Construction. The regulations implementing Executive Order 12372 regarding intergovernmental consultation on Federal programs and activities apply to this program.)

Authority: 23 U.S.C. 315; 49 CFR 1.48.

Issued on January 13, 2017.
Michael T. Leary,
Director Planning and Program Development, FHWA, Texas Division.

[FR Doc. 2017-01544 Filed 1-23-17; 8:45 am]

BILLING CODE P